EXPORT-IMPORT BANK

Sunshine Act Meetings; Notice of an Open Meeting of the Board of Directors of the Export-Import Bank of the United States

TIME AND DATE: Thursday, May 18, 2023, at 10:30 a.m.

PLACE: The meeting will be held via teleconference.

STATUS: The meeting will be open to public observation.

MATTERS TO BE CONSIDERED: Review of COVID-19 Relief Measures; Pre-Export/Pre-Delivery Payment Financing Option. Request to incorporate into EXIM's existing Pre-Export Payment Policy.

CONTACT PERSON FOR MORE INFORMATION: Joyce B. Stone (202-257-4086). Members of the public who wish to attend the meeting may do so via teleconference and must register using the link below by noon Wednesday May 17, 2023. After completing the registration, individuals will receive a confirmation email containing information about joining the webinar.

https://teams.microsoft.com/registration/PAFTuZHHMk2Zb1GDkIVFJw,pHLqbjVTrkuy_9KepKN6dQ,MFtnLzltSEGI6EQECdI5iQ,-TMCxl5GsEq6yLS6osHeTw,10AYmj_QV0KnmwKKO4Je8A,nPFBlm3NS06NSiYEDXanfQ?mode=read&tenantId=b953013c-c791-4d32-996f-518390854527

Joyce B. Stone,
Assistant Corporate Secretary.

[FR Doc. 2023-09882 Filed 5-5-23; 11:15 am]

BILLING CODE 6690-01-P